DEPARTMENT OF ENERGY

Federal Energy Regulatory Commission

Combined Notice of Filings #1

August 23, 2005.

Take notice that the Commission received the following electric rate filings.

Docket Numbers: ER97-2904-006.

Applicants: Lake Benton Power Partners, LLC.

Description: Lake Benton Power Partners, LLC submits it's triennial market power review in support of its market-based rate authority and request for market-based rate authority for sales of ancillary services.

Filed Date: 07/28/2005.

Accession Number: 20050801-0020.

Comment Date: 5 p.m. eastern time on Friday, September 2, 2005.

Docket Numbers: ER98-4515-003.

Applicants: Cadillac Renewable Energy LLC.

Description: Cadillac Renewable Energy LLC submits its updated market power study and an amendment to its market-based rate tariff.

Filed Date: 07/28/2005.

Accession Number: 20050804-0011.

Comment Date: 5 p.m. eastern time on Friday, September 2, 2005.

Docket Numbers: ER99-1228-004.

Applicants: Storm Lake Power Partners II, LLC.

Description: Storm Lake Power Partners II, LLC submits its triennial market power review and a request for market-based rate authority for sales of ancillary services.

Filed Date: 07/28/2005.

Accession Number: 20050801-0019.

Comment Date: 5 p.m. eastern time on Friday, September 2, 2005.

Docket Numbers: ER01-2398-010.

Applicants: Liberty Electric Power, LLC.

Description: Liberty Electric Power, LLC supplements its 7/7/05 compliance filing as amended on 7/20/05 and tenders for filing a revised tariff sheet designated as FERC Electric Tariff, First Revised Volume No. 1, Substitute Original Sheet No. 2.

Filed Date: 08/18/2005.

Accession Number: 20050822-0079.

Comment Date: 5 p.m. eastern time on Thursday, September 08, 2005.

Docket Numbers: ER02-1695-002.

Applicants: Cabazon Power Partners LLC.

Description: Cabazon Power Partners LLC submits notice of change status and motion to withdraw its qualifying status.

Filed Date: 05/17/2005.

Accession Number: 20050519-0110.

Comment Date: 5 p.m. eastern time on Friday, September 2, 2005.

Docket Numbers: ER03-715-003.

Applicants: Marina Energy, L.L.C.

Description: Marina Energy, L.L.C. submits Substitute Original Sheet No. 2 to its Original Rate Schedule No. 1, in compliance with Commission's letter order issued 7/20/05 in Docket No. ER03-715-002.

Filed Date: 08/18/2005.

Accession Number: 20050822-0081.

Comment Date: 5 p.m. eastern time on Thursday, September 08, 2005.

Docket Numbers: ER04-23-014.

Applicants: Devon Power LLC, Middletown Power LLC; Montville Power LLC; Norwalk Power LLC .

Description: Devon Power, LLC; Middletown Power LLC; Montville Power LLC; Norwalk Power LLC (collectively, NRG) submit a Revised Schedule No. 1 to the Cost-of-Service Agreement among NRG and ISO New England Inc., a refund report of the refunds made by NRG to ISO New England, and a report of the payments made by ISO New England to NRG.

Filed Date: 08/17/2005.

Accession Number: 20050822-0087.

Comment Date: 5 p.m. eastern time on Wednesday, September 07, 2005.

Docket Numbers: ER05-725-003.

Applicants: Deephaven RV Sub Fund Ltd.

Description: Deephaven RV Sub Fund Ltd. submits First Revised 3 to Rate Schedule No. 1 containing corrected language for Market Behavior Rule 2(B).

Filed Date: 08/17/2005.

Accession Number: 20050822-0078.

Comment Date: 5 p.m. eastern time on Wednesday, September 07, 2005.

Docket Numbers: ER05-810-002.

Applicants: UGI Energy Services, Inc.

Description: UGI Energy Services, Inc. submits substitute original Sheet No. 3, to its FERC Electric Tariff No. 1, in compliance with the Commission's letter order issued 7/20/05 in Docket Nos. ER05-810-000 and 001.

Filed Date: 08/16/2005.

Accession Number: 20050822-0080.

Comment Date: 5 p.m. eastern time on Tuesday, September 06, 2005.

Docket Numbers: ER05-1009-000.

Applicants: MidAmerican Energy Company.

Description: MidAmerican Energy Company submits notice of withdrawal of its 5/23/05 filing in Docket No. ER05-1009 of a Facilities Agreement with the City of Ames, Iowa.

Filed Date: 08/18/2005.

Accession Number: 20050818-5041.

Comment Date: 5 p.m. eastern time on Thursday, September 08, 2005.

Docket Numbers: ER05-1238-001.

Applicants: MidAmerican Energy Company.

Description: MidAmerican Energy Company submits an amendment to the 7/22/05 filing of an interconnection agreement with Indianola Municipal Utilities.

Filed Date: 08/18/2005.

Accession Number: 20050822-0086.

Comment Date: 5 p.m. eastern time on Thursday, September 08, 2005.

Docket Numbers: ER05-1299-001.

Applicants: Wabash Valley Power Association, Inc.

Description: Wabash Valley Power Association, Inc. submits a correction of certain information contained in the 8/8/05 filing in Docket No. ER05-1299-001.

Filed Date: 08/18/2005.

Accession Number: 20050822-0084.

Comment Date: 5 p.m. eastern time on Thursday, September 08, 2005.

Docket Numbers: ER05-1360-000.

Applicants: PacifiCorp.

Description: PacifiCorp submits amended and restated Harrison Interconnection and Transmission Facilities Conveyance Agreement with the Portland General Electric Company.

Filed Date: 08/18/2005.

Accession Number: 20050822-0074.

Comment Date: 5 p.m. eastern time on Thursday, September 08, 2005.

Docket Numbers: ER05-1361-000.

Applicants: Calpine Fox LLC.

Description: Calpine Fox, LLC (Fox) submits Rate Schedule No. 2, which sets forth the cost-based revenue requirements for the provision of reactive supply & voltage control from generator sources service from Fox to American Transmission Company, LLC and the Midwest Independent Transmission System Operator, Inc.

Filed Date: 08/18/2005.

Accession Number: 20050822-0075.

Comment Date: 5 p.m. eastern time on Thursday, September 08, 2005.

Docket Numbers: ER05-1362-000.

Applicants: Midwest Independent Transmission System Operator, Inc.

Description: Midwest Independent Transmission System Operator, Inc. submits an unexecuted facilities construction agreement among Prairie State Generating Company, LLC, the Midwest ISO and Ameren Services Company, as agent for Union Electric Company d/b/a AmerenUE.

Filed Date: 08/18/2005.

Accession Number: 20050822-0076.

Comment Date: 5 p.m. eastern time on Thursday, September 08, 2005.

Docket Numbers: ER05-1363-000.

Applicants: Deseret Generation & Transmission Co-operative, Inc.

Description: Deseret Generation & Transmission Co-operative, Inc. submits amendments to open access transmission, which is designated as FERC Electric Tariff, Second Revised Volume No. 2.

Filed Date: 08/18/2005.

Accession Number: 20050822-0154.

Comment Date: 5 p.m. eastern time on Thursday, September 08, 2005.

Docket Numbers: ER05-1364-000.

Applicants: Xcel Energy Operating Companies.

Description: Excel Energy Services Inc., on behalf of Northern States Power Company and Northern States Power Company (Wisconsin) submits revised tariff sheets to the Restated Agreement to Coordinate Planning and Operations and Interchange Power and Energy between Northern States Power Company (Minnesota) and Northern States Power Company (Wisconsin).

Filed Date: 08/17/2005.

Accession Number: 20050822-0083.

Comment Date: 5 p.m. eastern time on Wednesday, September 07, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE, Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlinSupport@ferc.gov. or call (866) 208-3676 (toll free). For TTY, call (202) 502-8659.

Linda Mitry,
Deputy Secretary.

[FR Doc. E5-4705 Filed 8-26-05; 8:45 am]

BILLING CODE 6717-01-P